DEPARTMENT OF THE INTERIOR

Fish and Wildlife Service

Availability of an Environmental Assessment on the Proposal To Establish Operational/Experimental General Swan Hunting Seasons in the Pacific Flyway

AGENCY: Fish and Wildlife Service, Interior.

ACTION: Notice of availability.

SUMMARY: This Notice advises the public that an Environmental Assessment on the Continuation of General Swan Hunting Seasons in Portions of the Pacific Flyway is available for public review.

ADDRESSES: Copies of the Environmental Assessment can be obtained by writing to Robert Trost, Pacific Flyway Representative, U.S. Fish and Wildlife Service, Division of Migratory Bird Management, 911 N.E. 11th Avenue, Portland, Oregon 97232-4181. The Environmental Assessment may also be viewed via the Fish and Wildlife Service Home Page at http://migratorybirds.fws.gov.

FOR FURTHER INFORMATION CONTACT: Robert Trost at: Pacific Flyway Representative, U.S. Fish and Wildlife Service, Division of Migratory Bird Management, 911 N.E. 11th Avenue, Portland, Oregon 97232-4181, (503) 231-6162.

SUPPLEMENTARY INFORMATION: The Environmental Assessment includes a review of the 5-year experimental general swan hunting seasons which took place from 1995 to 2000 as well as a summary of the results of the 2000 hunting season. Information from the most recent breeding season and wintering populations surveys is also included in the new Environmental Assessment. Three alternatives were considered to address the future of operational and experimental swan hunting seasons in Utah, Nevada and Montana. The issuance of a new Environmental Assessment was prompted by controversy over current management and the need to incorporate experience from the 2000 hunting season and the results of recent population surveys. There were also many requests from individuals, States, and various conservation organizations for a thorough examination of alternatives for swan hunting in the Pacific Flyway in light of continuing concerns for the Rocky Mountain Population of trumpeter swans. The Environmental Assessment focuses on the issue of whether or not to establish an operational approach for swan hunting. Related efforts to address population status and distributional concerns regarding the Rocky Mountain Population of trumpeter swans are also discussed. Three alternatives, including the proposed action, were considered.

Dated: June 14, 2001.
Kevin R. Adams,
Acting Director, U.S. Fish and Wildlife Service.

[FR Doc. 01-15634 Filed 6-20-01; 8:45 am]

BILLING CODE 4310-55-P